DEPARTMENT OF COMMERCE

International Trade Administration

[A-560-818 and C-560-819]

Notice of Postponement of Final Determination of Antidumping and Countervailing Duty Investigations and Extension of Provisional Measures: Certain Lined Paper Products from Indonesia

AGENCY: Import Administration, International Trade Administration, Department of Commerce.

EFFECTIVE DATE: May 9, 2006.

FOR FURTHER INFORMATION CONTACT: Damian Felton or Brandon Farlander, Import Administration, International Trade Administration, U.S. Department of Commerce, 14th Street and Constitution Avenue, NW., Washington, DC 20230; telephone: (202) 482-0133 or (202) 482-0182, respectively.

SUPPLEMENTARY INFORMATION:

Postponement of Final Determination

The Department of Commerce (“the Department”) is postponing the final determination in the antidumping and countervailing duty investigations of certain lined paper products (“CLPP”) from Indonesia. On October 6, 2005, the Department initiated the antidumping duty investigation of CLPP from Indonesia. See Initiation of Antidumping Duty Investigation: Certain Lined Paper Products from India, Indonesia, and the People's Republic of China, 70 FR 58374 (October 6, 2005). On October 7, 2005, the Department initiated the countervailing duty investigation of CLPP from Indonesia. See Initiation of Countervailing Duty Investigation: Certain Lined Paper Products from India (C-533-844) and Indonesia (C- 560-819), 70 FR 58690 (October 7, 2005).

On February 13, 2006, the Department published its affirmative countervailing duty determination. See Notice of Preliminary Affirmative Countervailing Duty Determination: Certain Lined Paper Products from Indonesia, 71 FR 7524 (February 13, 2006). On February 17, 2006, Petitioner submitted a letter requesting alignment of the final countervailing duty determination with the final determination in the companion antidumping investigation. On March 7, 2006, the Department published notification of alignment for the final determinations in the antidumping and countervailing duty investigations of CLPP from Indonesia. See Certain Lined Paper Products From India and Indonesia: Alignment of First Countervailing Duty Determination With Antidumping Duty Determination, 71 FR 11379 (March 7, 2006). On March 27, 2006, the Department published its affirmative preliminary antidumping duty determination. See Notice of Preliminary Determination of Sales at Less Than Fair Value: Certain Lined Paper Products from Indonesia, 71 FR 15162 (March 27, 2006). This notice states that the Department will issue its final determination no later than 75 days after the date of the preliminary determination.

Section 735(a)(2)(A) of the Tariff Act of 1930, as amended, (the Act) and 19 CFR 351.210(b)(2)(ii) provide that a final determination in an antidumping duty investigation may be postponed until no later than 135 days after the date of the publication of the preliminary determination if, in the event of an affirmative preliminary determination, a request for such postponement is made by exporters who account for a significant proportion of exports of the subject merchandise. Additionally, the Department's regulations, at 19 CFR 351.210(e)(2)(ii), require that requests by a respondent for postponement of a final determination be accompanied by a request for an extension of the provisional measures from a four-month period to not more than six months.

On April 24, 2006, in accordance with section 735(a)(2)(A) of the Act and 19 CFR 351.210(b)(2)(ii), PT. Pabrik Kertas Tjiwi Kimia Tbk., which is the only mandatory respondent in the antidumping investigation and which accounts for a significant portion of exports of CLPP from Indonesia (see the Memorandum from Natalie Kempkey to Susan Kuhbach entitled “Antidumping Investigation of Certain Lined Paper Products from Indonesia: Selection of Respondents”), requested that the Department: (1) Postpone the final determination; and (2) extend the provisional measures period from four months to a period not longer than six months. Accordingly, pursuant to section 735(a)(2)(A) of the Act and 19 CFR 351.210(b)(2)(ii), because: (1) The preliminary determination is affirmative; (2) the requesting exporter accounts for a significant proportion of exports of the subject merchandise in this investigation; and (3) no compelling reasons for denial exist, we are postponing the final determination until no later than 135 days after the publication of the preliminary determination in the Federal Register (i.e., until no later than August 9, 2006). Suspension of liquidation will be extended accordingly.

In addition, because the countervailing duty investigation of CLPP from Indonesia has been aligned with the concurrent antidumping duty investigation under section 705(a)(1) of the Act, the time limit for completion of the final determination in the countervailing duty investigation will be the same date, August 9, 2006, as the final determination of the concurrent antidumping duty investigation. See Postponement of Final Determination of Antidumping and Countervailing Duty Investigations of Hot-Rolled Flat-Rolled Carbon-Quality Steel From Brazil, 64 FR 24321 (May 6, 1999).

This notice of postponement is published pursuant to section 735(a) of the Act and 19 CFR 351.210(g).

Dated: May 3, 2006.
David M. Spooner,
Assistant Secretary for Import Administration.

[FR Doc. E6-7041 Filed 5-8-06; 8:45 am]

BILLING CODE 3510-DS-S